DEPARTMENT OF THE INTERIOR

National Park Service

National Register of Historic Places; Notification of Pending Nominations and Related Actions

Nominations for the following properties being considered for listing or related actions in the National Register were received by the National Park Service before June 5, 2010. Pursuant to section 60.13 of 36 CFR Part 60, written comments are being accepted concerning the significance of the nominated properties under the National Register criteria for evaluation. Comments are also being accepted on the following properties being considered for removal pursuant to 36 CFR 60.15. Comments may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 22, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Pima County

Indian Ridge Historic District, NW., of Sabino Canyon and Tanque Verde, Tucson, 10000467

KENTUCKY

Jefferson County

Whiskey Row Historic District, 101—133 W Main St., Louisville, 10000487

MICHIGAN

Bay County

Odd Fellows Valley Lodge No. 189 Building, 1900 Broadway Ave., Bay City, 10000474

Delta County

Bay de Noc Lumber Co. Bark Burner, North shore Big Bay de Noc, Nahma, 10000468

Manistee County

Manistee Iron Works Machine Shop, 254 River St., Manistee, 10000477

Wayne County

Rosedale Gardens Historic District, Arden to Hubbard Sts. between Plymouth Rd. and W Chicago St., Livonia, 10000478

Wexford County

Cobbs and Mitchell Building, 100 E Chapin St., Cadillac, 10000479

MINNESOTA

Ramsey County

Shubert, Sam S., Theatre and Shubert Building, 10 E Exchange St. and 488 N Wabasha St., Saint Paul, 10000475

MISSOURI

Platte County

Missouri District Warehouse, 357 Main St., Weston, 10000476

St. Louis Independent city

Berry Morot Car Service Building, (Auto-Related Resources of St. Louis, Missouri MPS) 2220 Washington Ave., St. Louis, 10000480

NEW YORK

Albany County

Hiram Griggs House, 111 Prospect Terrace, Altamont, 10000483

Fulton County

Oppenheim and St. Johnsville Union Society Church, 110 County HWY 108, Crum Creek, 10000485

Herkimer County

Overlook, 1 Overlook Dr., Little Falls, 10000484

Schenectady County

Rosendale Common School, 2572 Rosendale Rd., Niskayuna, 10000482

Suffolk County

Frank Melville Memorial Park, Old Field Rd between Lake St. and Main St., Setauket, 10000486

PENNSYLVANIA

Delaware County

Rose Valley Historic District, Roughly bounded by Ridley Creek, Woodward Rd., Providence and Brookhaven Rds. and Todmorden Ln. within Rose Valley Borough, Rose Valley Borough, 10000470

RHODE ISLAND

Providence County

Pocasset Worsted Company Mill, 75 Pocasset St., Johnston, 10000471

TENNESSEE

Carroll County

Long Rock Methodist Episcopal Church, South, 340 Long Rock Church Rd., Huntingdon, 10000466

Davidson County

Daniel, John Beauregard, House, 3206 Hillsboro Pike, Nashville, 10000481

Gibson County

Bonds House, 204 S 19th Ave., Humboldt, 10000473

Smith County

Fortified Town at the Mouth of Dixon Creek, (Mississippian Cultural Resources of the Central Basin (AD 900—1450) MPS) Rome Rd., 122, Dixon Springs, 10000465

Washington County

Memorial Stadium, Intersection of E Main St. and Lonnie Lowe Ln., Johnson City, 10000472

Weakley County

Varsity Theatre, 104 Oxford St., Martin, 10000464

TEXAS

Bexar County

Krause House, 8551 Pearsall Rd., San Antonio, 10000469

WISCONSIN

Sauk County

State Bank of Springfield Green, 134 W Jefferson St., Spring Green, 10000463

Request for REMOVAL has been made for the following resources:

PENNSYLVANIA

Chester County

Bridge in Tredyffrin Township Gulph Rd. over Trout Run Port Kennedy, 88000778

Mortonville Bridge Strasburg Rd., Coatesville, 85002392

[FR Doc. 2010-16391 Filed 7-6-10; 8:45 am]

BILLING CODE P